DEPARTMENT OF EDUCATION

Notice Inviting Applications for Public and Private Nonprofit Institutions of Higher Education Under the Higher Education Emergency Relief Fund (HEERF), Section 2003 of the American Rescue Plan Act, 2021 (ARP)

AGENCY: Office of Postsecondary Education, Department of Education.

ACTION: Notice; reopening of application period.

SUMMARY: The U.S. Department of Education is reopening the application period for institutions of higher education (IHEs) eligible for HEERF, ARP Act funds under the grant funding provided in SUPPLEMENTARY INFORMATION. The Secretary takes this action to allow eligible applicants additional time to submit their Certifications and Agreements (applications), and associated data submissions for approved information collections.

DATES:

Deadline for transmittal of applications: Applications will be accepted on a rolling basis until March 7, 2022.

Deadline for submission of RPIC form: March 7, 2022.

FOR FURTHER INFORMATION CONTACT: Karen Epps, U.S. Department of Education, 400 Maryland Avenue SW, Room 2B133, Washington, DC 20202. Telephone: The Department of Education HEERF Call Center at (202) 377-3711. Email: HEERF@ed.gov. Please also visit our HEERF website at: www2.ed.gov/about/offices/list/ope/arp.html.

If you use a telecommunications device for the deaf (TDD) or a text telephone (TTY), call the Federal Relay Service (FRS), toll free, at 1-800-877-8339.

SUPPLEMENTARY INFORMATION: The U.S. Department of Education is reopening the application period for institutions of higher education (IHEs) eligible for HEERF, ARP Act funds under the grant funding streams:

• ARP (a)(1) HEERF grant funding as authorized under section 2003(1) of the ARP (Assistance Listing Numbers (ALNs) 84.425E and 84.425F);

• ARP (a)(2) HEERF grant funding as authorized under ARP section 2003(2) for MSI and SIP institutions (ALNs 84.425L, and 84.425M); and

• ARP (a)(4) grant funding under the Proprietary Institution Grant Funds for Students Program (ALN 84.425Q).

The Secretary takes this action to allow eligible applicants additional time to submit their Certifications and Agreements (applications), and associated data submissions for approved information collections under OMB control numbers 1801-0005, 1840-0842, 1840-0843, 1840-0852, and 1840-0855.

This notice reopens the period for transmittal of applications for all eligible applicants that appear on the published allocation tables for ARP (a)(1), (a)(2) SIP and MSI, and ARP (a)(4) funding, along with the Required Proprietary Institution Certification (RPIC) until March 7, 2022. Please note that institutions that are not included on the ARP(a)(1) and (a)(2) allocation tables, but that are eligible institutions, may apply under the Supplemental Support Under the American Rescue Plan (SSARP) funding opportunity.

ARP HEERF (a)(1): On May 13, 2021, the Secretary announced in the Federal Register (86 FR 26215) the availability of new ARP (a)(1) HEERF grant funding as authorized under section 2003(1) of the ARP and invited applications under Assistance Listing Numbers (ALN) 84.425E and 84.425F from eligible public and private nonprofit institutions that did not previously receive funding under section 314(a)(1) of the Coronavirus Response and Relief Supplemental Appropriations Act, 2021 (CRRSAA).

ARP HEERF (a)(2): On August 2, 2021, the Secretary announced in the Federal Register (86 FR 41459) the availability of new HEERF funding for the ARP (a)(2) grant program authorized under the ARP section 2003(2) Strengthening Institutions Program and invited applications under Assistance Listing Number (ALN) 84.425M from eligible public and private nonprofit IHEs to address needs directly related to the coronavirus. These awards were in addition to the ARP (a)(1) grant funds and were allocated by the Secretary proportionally based on the relative share of funding appropriated to SIP in the Further Consolidated Appropriations Act, 2020. The IHEs eligible for this funding include institutions eligible for SIP that did not receive funding under section 314(a)(2) of the CRRSAA and that are included in the ARP (a)(2) allocation table.

In addition, on August 2, 2021, the Secretary announced in the Federal Register (86 FR 41454) the availability of new HEERF funding for the ARP (a)(2) grant program authorized under ARP section 2003(2) Minority Serving Institutions program and invited applications under Assistance Listing Number (ALN) 84.425L from eligible public and private nonprofit IHEs to address needs directly related to the coronavirus. These awards were in addition to the ARP (a)(1) grants and were allocated by the Secretary proportionally to funding for MSI programs in the Further Consolidated Appropriations Act, 2020. The institutions eligible for this funding include institutions that generally would be eligible to apply for the following grant programs under the Higher Education Act of 1965, as amended (HEA), and that are listed on the ARP (a)(2) MSI Allocation Table: Title V, part A Developing Hispanic Serving Institutions, Title V, part B Promoting Postbaccalaureate Opportunities for Hispanic Americans, and the following Title III Part A programs: Strengthening Asian American and Native American Pacific Islander-Serving Institutions (AANAPISI), Strengthening Alaska Native and Native Hawaiian-Serving Institutions (ANNH), Strengthening Native American-Serving Nontribal Institutions (NASNTI), and Strengthening Predominantly Black Institutions (PBI).

ARP HEERF (a)(4): Lastly, on May 13, 2021, the Department published in the Federal Register (86 FR 26210) a notice announcing the availability of funds and application deadlines for the ARP (a)(4) grant funding and the RPIC form for Supplemental ARP (a)(4) awards under the Proprietary Institution Grant Funds for Students Program, ALN 84.425Q, as authorized under section 2003 of the ARP. The Department also announced that it would award supplemental funds to eligible institutions that previously received a CRRSAA section 314(a)(4) award, ALN 84.425Q, without requiring these institutions to submit a new application for funding. However, prior to receiving an award, eligible institutions were required to submit an RPIC form signed by the institution's president or chief executive officer and any owners with an ownership interest in the institution of 25 percent or more.

Each application for an ARP (a)(1), (a)(2), and (a)(4) grant must include—

• A complete SF-424;

• The Supplemental Information for the SF-424 form;

• The applicable Certification and Agreement (C&A).

Each application for an ARP (a)(4) grant must also include a complete RPIC form, available at www2.ed.gov/about/offices/list/ope/arp.html.

The Department reopens the period for transmittal of applications for all eligible applicants for ARP (a)(1), ARP (a)(2) SIP and MSI, and ARP (a)(4) funding, along with the Required Proprietary Institution Certification (RPIC) until March 7, 2022.

We will accept complete applications submitted at any time prior to the deadline on March 7, 2022. All other requirements and conditions stated in the aforementioned notices announcing availability of funds remain the same.

Program Authority: Section 2003 of the ARP and section 314 of the CRRSAA.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free through a link at the site.

You may also access documents of the Department published in the Federal Register by using the article search feature at www.federalregister.gov. Specifically, through the advanced search feature at this site, you can limit your search to documents published by the Department.

Michelle Asha Cooper,
Deputy Assistant Secretary for Higher Education Programs Delegated the Authority to Perform the Functions and Duties of the Assistant Secretary, Office of Postsecondary Education.

[FR Doc. 2022-02339 Filed 2-2-22; 8:45 am]

BILLING CODE 4000-01-P